NUCLEAR REGULATORY COMMISSION

[Docket No. 50-305]

Dominion Energy Kewaunee, Inc.; Notice of Withdrawal of Application for Amendment to Facility Operating License

The U.S. Nuclear Regulatory Commission (the Commission) has granted the request of Dominion Energy Kewaunee, Inc., (the licensee) to withdraw its June 1, 2004, application for proposed amendment to Facility Operating License No. DPR-43 for the Kewaunee Nuclear Plant, located in Kewaunee County, Wisconsin.

The proposed amendment would have modified the Technical Specifications (TS) to revise TS 1.0, “Definitions,” Table 3.5-2, “Instrument Operation Conditions for Reactor Trip,” and Table 4.1-1, “Minimum Frequencies for Checks, Calibrations, and Test of Instrument Channels,” proposed to change the requirement to perform the channel test and channel calibration “once per operating cycle.” The proposed changes would have added a definition for “staggered test basis,” increase surveillance test intervals for the analog channels and logic cabinets of the reactor protection system and engineered safety featured actuation system, and would have added a completion time for the reactor trip breakers. Subsequently, by letter date August 4, 2005, you withdrew the amendment request. The Commission had previously issued a Notice of Consideration of Issuance of Amendment published in the Federal Register on July 6, 2004 (69 FR 40676). However, by letter dated August 4, 2005, the licensee withdrew the proposed amendment.

For further details with respect to this action, see the application for amendment dated June 1, 2004, and the licensee's letter dated August 4, 2005, which withdrew the application for license amendment. Documents may be examined, and/or copied for a fee, at the NRC's Public Document Room (PDR), located at One White Flint North, Public File Area 01 F21, 11555 Rockville Pike (first floor), Rockville, Maryland. Publicly available records will be accessible electronically from the Agencywide Documents Access and Management Systems (ADAMS) Public Electronic Reading Room on the internet at the NRC Web site, http://www.nrc.gov/reading-rm/adams/html. Persons who do not have access to ADAMS or who encounter problems in accessing the documents located in ADAMS, should contact the NRC PDR Reference staff by telephone at 1-800-397-4209, or 301-415-4737 or by e-mail to pdr@nrc.gov.

Dated at Rockville, Maryland, this 11th day of August, 2005.
For the Nuclear Regulatory Commission.
L. Raghavan,
Chief, Section 1, Project Directorate III, Division of Licensing Project Management, Office of Nuclear Reactor Regulation.

[FR Doc. E5-4617 Filed 8-23-05; 8:45 am]

BILLING CODE 7590-01-P